DEPARTMENT OF TRANSPORTATION

Federal Aviation Administration

RTCA; Joint RTCA Special Committee 181/EUROCAE Working Group 13 Standards of Navigation Performance

Pursuant to section 10(a)(2) of the Federal Advisory Committee Act (Pub. L. 92-463, 5 U.S.C., Appendix 2), notice is hereby given for a joint Special Committee 181/EUROCAE Working Group 13 meeting to be held May 15-19, 2000, starting at 9 a.m. The meeting will be held at the Northwest Airlines Training Facility (NATCO), 2600 Lone Oak Point, Eagan, MN 55121. The host, Mr. Frank Alexander, may be reached at (602) 436-7268 (phone).

The agenda will be as follows: May 15: (1) Working Group (WG)-4. May 16: (2) WG-4 continues; (3) WG-1 begins. May 17: (4) WG-1 and WG-4 continue meeting separately. May 18: Plenary convenes; (5) Introductory Remarks; (6) Working Group Reports; (7) Review of DO-236A and Moving Map Minimum Operational Performance Standards (MOPS). May 19: (8) Plenary Review of DO-236A and Moving Map MOPS continues; (9) New Business (Cold Temperature Addendum to DO-236A); (10) Date and Location of Next Meeting; (11) New Business; (12) Closing.

Attendance is open to the interested public but limited to space availability. With the approval of the chairman, members of the public may present oral statements at the meeting. Persons wishing to present statements or obtain information should contact the RTCA Secretariat, 1140 Connecticut Avenue, NW., Suite 1020, Washington, DC 20036; (202) 833-9339 (phone); (202) 833-9434 (fax); or http://www.rtca.org (web site). Members of the public may present a written statement to the committee at any time.

Issued in Washington, DC, on April 24, 2000.
Jane P. Caldwell,
Designated Official.

[FR Doc. 00-10712 Filed 4-28-00; 8:45 am]

BILLING CODE 4910-13-M